FEDERAL MARITIME COMMISSION

Ocean Transportation Intermediary License Reissuances

Notice is hereby given that the following Ocean Transportation Intermediary licenses have been reissued by the Federal Maritime Commission pursuant to section 19 of the Shipping Act of 1984 (46 U.S.C. Chapter 409), and the regulations of the Commission pertaining to the licensing of Ocean Transportation Intermediaries, 46 CFR part 515.

License No. | Name/address | Date reissued
019846N | Gunhill Shipping & Receiving Headquarters, Inc., 1444 E. Gunhill Road, Bronx, NY 10469 | January 10, 2007.
003950N | Ocean-5 Express Line, Inc., 520 E. Carson Plaza Court, Suite 206 Carson, CA 90746 | March 3, 2007.

Sandra L. Kusumoto,
Director, Bureau of Certification and Licensing.

[FR Doc. E7-5685 Filed 3-27-07; 8:45 am]

BILLING CODE 6730-01-P